DEPARTMENT OF TRANSPORTATION

Office of the Secretary

Aviation Proceedings, Agreements Filed the Week Ending November 14, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0341.

Date Filed: November 10, 2008.

Parties: Members of the International Air Transport Association.

Subject: TC31 North & Central Pacific, Areawide Resolutions, (Memo 0459).

Minutes: TC31/TC123 Passenger Tariff Coordinating Conference, TC31 North and Central Pacific Minutes, PTC123 Minutes, (Memo 0466). Intended effective date: 1 April 2009.

Docket Number: DOT-OST-2008-0342.

Date Filed: November 10, 2008.

Parties: Members of the International Air Transport Association.

Subject: TC31 North & Central Pacific, TC3 (except Japan)—North America, Caribbean (except between Korea (Rep. of), Malaysia and USA), Areawide Resolutions, (Memo 0459).

Minutes: TC31/TC123 Passenger Tariff Coordinating Conference, TC31 North and Central Pacific Minutes, PTC123 Minutes, (Memo 0466). Technical Correction 1: TC31 North & Central Pacific, TC3 (except Japan)—North America, Caribbean (except between Korea (Rep. of), Malaysia and USA), Areawide Resolutions, (Memo 0467). Technical Correction 2: TC31 North & Central Pacific, TC3 (except Japan)—North America, Caribbean (except between Korea (Rep. of), Malaysia and USA), Areawide Resolutions, (Memo 0469). Intended effective date: 1 April 2009.

Docket Number: DOT-OST-2008-0343.

Date Filed: November 10, 2008.

Parties: Members of the International Air Transport Association.

Subject: TC31 North & Central Pacific, Japan—North America, Caribbean, Resolutions and Specified Fares Tables, (Memo 0461).

Minutes: TC31/TC123 Passenger Tariff Coordinating Conference, TC31 North and Central Pacific Minutes, PTC123 Minutes, (Memo 0466). Intended effective date: 1 April 2009.

Docket Number: DOT-OST-2008-0344.

Date Filed: November 10, 2008.

Parties: Members of the International Air Transport Association.

Subject: TC31 North & Central Pacific, TC3—Central America, South America, Resolutions and Specified Fares Tables, (Memo 0462).

Minutes: TC31/TC123 Passenger Tariff Coordinating Conference, TC31 North and Central Pacific Minutes, PTC123 Minutes, (Memo 0466). Intended effective date: 1 April 2009.

Docket Number: DOT-OST-2008-0345.

Date Filed: November 10, 2008.

Parties: Members of the International Air Transport Association.

Subject: TC31 North & Central Pacific, Between Korea (Rep. of), Malaysia) and USA, Resolutions and Specified Fares Tables, (Memo 0463).

Minutes: TC31/TC123 Passenger Tariff Coordinating Conference, TC31 North and Central Pacific Minutes, PTC123 Minutes, (Memo 0466). Technical Correction: TC31 North & Central Pacific, Between Korea (Rep. of), Malaysia) and USA, (Memo 0468). Intended effective date: 1 April 2009.

Docket Number: DOT-OST-2008-0346.

Date Filed: November 10, 2008.

Parties: Members of the International Air Transport Association.

Subject: TC123 North Atlantic, (except between USA and Korea, Rep. of, Malaysia), Resolutions and Specified Fares Tables, (Memo 0424).

Minutes: TC31/TC123 Passenger Tariff Coordinating Conference, TC31 North and Central Pacific Minutes, PTC 123 Minutes, (Memo 0433).

Intended effective date: 1 April 2009.

Docket Number: DOT-OST-2008-0347.

Date Filed: November 10, 2008.

Parties: Members of the International Air Transport Association.

Subject: TC123 Mid Atlantic, Resolutions and Specified Fares Tables, (Memo 0425).

Minutes: TC31/TC123 Passenger Tariff Coordinating Conference, TC31 North and Central Pacific Minutes, PTC123 Minutes, (Memo 0433).

Intended effective date: 1 April 2009.

Docket Number: DOT-OST-2008-0348.

Date Filed: November 10, 2008.

Parties: Members of the International Air Transport Association.

Subject: TC123 South Atlantic, Resolutions and Specified Fares Tab, (Memo 0426).

Minutes: TC31/TC123 Passenger Tariff Coordinating Conference, TC31 North and Central Pacific Minutes, PTC123 Minutes, (Memo 0433).

Intended effective date: 1 April 2009.

Docket Number: DOT-OST-2008-0350.

Date Filed: November 12, 2008.

Parties: Members of the International Air Transport Association.

Subject: TC123, Areawide Resolutions, (Memo 0427).

Minutes: TC31/TC123 Passenger Tariff Coordinating Conference, TC31 North and Central Pacific Minutes, PTC123 Minutes, (Memo 0433).

Intended effective date: 1 April 2009.

Docket Number: DOT-OST-2008-0351.

Date Filed: November 12, 2008.

Parties: Members of the International Air Transport Association.

Subject: TC123.

Between Korea (Rep. of), Malaysia and USA Resolutions, (Memo 0428).

Minutes: TC31/TC123 Passenger Tariff Coordinating Conference, TC31 North and Central Pacific Minutes, PTC123 Minutes, (Memo 0433).

Intended effective date: 1 April 2009.

Docket Number: DOT-OST-2008-0352.

Date Filed: November 12, 2008.

Parties: Members of the International Air Transport Association.

Subject: Technical Correction: TC3 Japan, Korea-South East Asia, Except between Korea (Rep. of) and Guam, Northern Mariana Islands, Expedited Resolution 002na, (Memo 1248).

Intended effective date: 15 December 2008.

Renee V. Wright,
Program Manager, Docket Operations, Federal Register Liaison.

[FR Doc. E8-31159 Filed 12-30-08; 8:45 am]

BILLING CODE 4910-9X-P